DEPARTMENT OF AGRICULTURE

Forest Service

Long Damon Plantation Release and Site Preparation, Modoc National Forest, Modoc County, CA

AGENCY: Forest Service, USDA.

ACTION: Cancellation notice.

SUMMARY: On March 29, 2002, a Notice of Intent (NOI) to prepare an environmental (EIS) for the Long Damon Plantation Release and Site Preparation project, on the Doublehead Ranger District of the Modoc National Forest was published in the Federal Register, Volume 68 (2003). I have decided to cancel the project. The NOI is hereby rescinded.

FOR FURTHER INFORMATION CONTACT: Questions may be addressed to Anne Mileck, Silviculturist, Doublehead Ranger District, 800 W. 12th Street, Alturas, CA 96101, telephone: 530-233-8803.

Dated: June 25, 2003.
Nancy Gardner,
Acting Forest Supervisor.

[FR Doc. 03-18113 Filed 7-16-03; 8:45 am]

BILLING CODE 3410-11-M